DEPARTMENT OF COMMERCE

National Oceanic and Atmospheric Administration

RIN 0648-XS85

Gulf of Mexico Fishery Management Council; Public Meeting

AGENCY: National Marine Fisheries Service (NMFS), National Oceanic and Atmospheric Administration (NOAA), Commerce.

ACTION: Notice of a public meeting.

SUMMARY: The Gulf of Mexico Fishery Management Council will convene a joint meeting of the Standing and Special Reef Fish Scientific and Statistical Committees.

DATES: The meeting will convene at 1 p.m. on Tuesday, December 1, 2009 and conclude by 12 p.m. on Thursday, December 3, 2009. The meeting will be webcast over the internet. A link to the webcast will be available on the Council's web site, http://www.gulfcouncil.org.

ADDRESSES: The meeting will be held at the Hilton, 901 Airline Drive, Kenner, LA 70062.

Council address: Gulf of Mexico Fishery Management Council, 2203 N. Lois Avenue, Suite 1100, Tampa, FL 33607.

FOR FURTHER INFORMATION CONTACT: Steven Atran, Population Dynamics Statistician; Gulf of Mexico Fishery Management Council; telephone: (813) 348-1630.

SUPPLEMENTARY INFORMATION: On the first day of the meeting, the Standing and Special Reef Fish Scientific and Statistical Committees and the Red Snapper Advisory Panel will meet jointly to hear a presentation on the update stock assessment for red snapper. Following the presentation, the Scientific and Statistical Committees and Advisory Panel will reconvene separately to continue any discussion of the update stock assessment and make any management recommendations. The Scientific and Statistical Committees will evaluate the adequacy of the assessment for management purposes and will recommend a level of acceptable biological catch. The acceptable biological catch is a catch level which the Council cannot exceed when setting the annual catch limit for red snapper. The Scientific and Statistical Committees will also review a draft Acceptable Biological Catch Control Rule that is being developed by an Acceptable Biological Catch Control Rule Working Group, will discuss acceptable biological catch Control rules for data-moderate and data-poor stocks, review analyses of species groupings and recommend groupings for Acceptable Biological Catches, and discuss the next steps to take in the development of acceptable biological catch control rules. The recommendations made by the Scientific and Statistical Committees will be presented to the Council at its February 1 - 4, 2010 meeting in Mobile, AL.

Copies of the agenda and other related materials can be obtained by calling (813) 348-1630 or can be downloaded from the Council's ftp site, ftp.gulfcouncil.org.

Although other non-emergency issues not on the agenda may come before the Scientific and Statistical Committees for discussion, in accordance with the Magnuson-Stevens Fishery Conservation and Management Act, those issues may not be the subject of formal action during this meeting. Actions of the Scientific and Statistical Committees will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Tina O'Hern at the Council (see ADDRESSES) at least 5 working days prior to the meeting.

Dated: November 9, 2009.
Tracey L. Thompson,
Acting Director, Office of Sustainable Fisheries, National Marine Fisheries Service.

[FR Doc. E9-27266 Filed 11-12-09; 8:45 am]

BILLING CODE 3510-22-S